NATIONAL FOUNDATION ON THE ARTS AND THE HUMANITIES

Institute of Museum and Library Services

Submission for OMB Review, Comment Request, Proposed Collection: 2023-2027 IMLS Grants to States Program Five-Year State Plan Guidelines for State Library Administrative Agencies

AGENCY: Institute of Museum and Library Services, National Foundation on the Arts and the Humanities.

ACTION: Submission for OMB Review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the 2023-2027 IMLS Grants to States Program Five-Year State Plan Guidelines for State Library Administrative Agencies.

A copy of the proposed information collection request can be obtained by contacting the individual listed below in the ADDRESSES section of this notice.

DATES: Written comments must be submitted to the office listed in the FOR FURTHER INFORMATION CONTACT section below on or before February 7, 2021.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call 202-395-7316.

FOR FURTHER INFORMATION CONTACT: Teresa DeVoe, Associate Deputy Director of State Programs, Office of Library Services, Institute of Museum and Library Services, 955 L'Enfant Plaza North SW, Suite 4000, Washington, DC 20024-2135. Ms. DeVoe can be reached by telephone at 202-653-4778, or by email at tdevoe@imls.gov. Office hours are from 8:30 a.m. to 5 p.m., E.T., Monday through Friday, except Federal holidays.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: This notice proposes the clearance of the 2023-2027 IMLS Grants to States Program Five-Year State Plan Guidelines for State Library Administrative Agencies. The 60-day Notice was published in the Federal Register on November 3, 2020 (85 FR 69649). The agency has taken into consideration the one comment that was received under this notice.

The Grants to States program is the largest source of Federal funding support for library services in the U.S. Using a population based formula, more than $150 million is distributed among the State Library Administrative Agencies (SLAAs) every year. SLAAs are official agencies charged by law with the extension and development of library services, and they are located in:

• Each of the 50 States of the United States, and the District of Columbia;

• The Territories (the Commonwealth of Puerto Rico, the U.S. Virgin Islands, Guam, American Samoa, and the Commonwealth of the Northern Mariana Islands); and

• The Freely Associated States (the Republic of the Marshall Islands, the Federated States of Micronesia, and the Republic of Palau).

Each year, more than 1,500 Grants to States projects support the purposes and priorities outlined in the Library Services and Technology Act (LSTA). (See 20 U.S.C. 9121 et seq.) SLAAs may use the funds to support statewide initiatives and services, and they may also distribute the funds through competitive subawards (e.g. subgrants or cooperative agreements) to public, academic, research, school, or special libraries or library consortia (for-profit and Federal libraries are not eligible). Each SLAA must submit a plan that details library services goals for a five-year period. (20 U.S.C § 9134). SLAAs must also conduct a five-year evaluation of library services based on that plan. These plans and evaluations are the foundation for improving practice and informing policy. Each SLAA receives IMLS funding to support the five year period through a series of overlapping, two year grant awards.

Agency: Institute of Museum and Library Services.

Title: 2023-2027 IMLS Grants to States Program Five-Year State Plan Guidelines for State Library Administrative Agencies.

OMB Number: 3137-0029.

Frequency: Once every five years.

Affected Public: State and Territory Library Administrative Agencies.

Number of Respondents: 59.

Estimated Average Burden per Response: 90 hours.

Estimated Total Burden: 5,310 hours.

Total Annualized Capital/Startup Costs: n/a.

Total Five Year Costs: $158,078.70.

Dated: January 4, 2021.
Kim Miller,
Senior Grants Management Specialist, Institute of Museum and Library Services.

[FR Doc. 2021-00094 Filed 1-7-21; 8:45 am]

BILLING CODE 7036-01-P